DEPARTMENT OF TRANSPORTATION

Federal Railroad Administration

[Docket Number FRA-2013-0032]

Petition for Waiver of Compliance

In accordance with Part 211 of Title 49 Code of Federal Regulations (CFR), this document provides the public notice that by a document dated March 21, 2013, New York, Susquehanna and Western Railway (NYSW) has petitioned the Federal Railroad Administration (FRA) for a waiver of compliance from certain provisions of the Federal railroad safety regulations contained at 49 CFR Part 231, Railroad Safety Appliance Standards. FRA assigned the petition Docket Number FRA-2013-0032.

NYSW has petitioned FRA for a waiver to operate RailRunner equipment in its service between Syracuse, NY, and North Bergen, NJ. Specifically, NYSW seeks a waiver of compliance from certain provisions of 49 CFR Part 231, which stipulates the number, location, and dimensions for handholds, ladders, sill steps, uncoupling levers, and hand brakes. NYSW also seeks relief from 49 CFR 231.1, which sets forth the standard height for drawbars.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by June 14, 2013 will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 10, 2013 (65 FR 19477).

Issued in Washington, DC, on April 24, 2013.
Robert C. Lauby,
Deputy Associate Administrator for Regulatory and Legislative Operations

[FR Doc. 2013-10073 Filed 4-29-13; 8:45 am]

BILLING CODE 4910-06-P